DEPARTMENT OF TRANSPORTATION

Federal Highway Administration

Notice of Final Federal Agency Actions on Proposed Transportation Project in Pennsylvania

AGENCY: Federal Highway Administration (FHWA), DOT.

ACTION: Notice of limitation on claims for judicial review.

SUMMARY: This notice announces action taken by FHWA and other Federal agencies that are final. The actions relate to the U.S. 6219, Section 050 Transportation Improvement Project from Meyersdale, PA to Old Salisbury Road, MD located in Somerset County, PA and Garrett County, MD.

DATES: By this notice, FHWA is advising the public of final agency actions subject to 23 U.S.C. 139(l)(1). A claim seeking judicial review of the Federal agency actions on the highway project will be barred unless the claim is filed on or before November 3, 2025. If the Federal law that authorizes judicial review of a claim provides a time period of less than 150 days for filing such claim, then that shorter time period still applies.

FOR FURTHER INFORMATION CONTACT: David Snyder, Interim Division Administrator, Federal Highway Administration, Pennsylvania Division, 30 North Third Street, Suite 700, Harrisburg, PA 17101; telephone (717) 221-3461.

SUPPLEMENTARY INFORMATION: Notice is hereby given that FHWA has taken final agency action by issuing approval for the following highway project in the State of Pennsylvania and State of Maryland: U.S. 6219, Section 050 Transportation Improvement Project. The purpose of the Project is to complete Corridor N of the Appalachian Development Highway System, to improve the system linkage in the region, provide safe and efficient access for motorists traveling on U.S. 219, and provide transportation infrastructure to support economic opportunities in existing and planned communities and employment/business centers and natural resource-based industries within the Appalachian Region.

The needs of the Project are:

• Existing U.S. 219 does not provide efficient mobility for trucks and freight.

• There are numerous roadway and geometric deficiencies present along the existing U.S. 219 alignment.

• The existing roadway infrastructure is a limiting factor in economic development opportunities in the Appalachian Region.

The actions by the Federal agency, and the laws under which such actions were taken, are described in the FHWA Final Environmental Impact Statement (FEIS) for the project, signed May 29, 2025, in the Record of Decision (ROD) for the project, issued on May 29, 2025, and in other documents in the FHWA administrative record. The FEIS, ROD, and other documents in the FHWA administrative record files are available by contacting FHWA at the address provided above. The FEIS and ROD can also be viewed and downloaded from the project website at: https://www.pa.gov/agencies/penndot/projects-near-you/district-9-projects/us-219-meyersdale-to-old-salisbury-road.html.

This notice applies to FHWA agency decisions as of the issuance date of this notice and all laws under which such actions were taken, including but not limited to:

1. National Environmental Policy Act [42 U.S.C. 4321-4351].

2. Federal-Aid Highway Act [23 U.S.C. 109].

3. Clean Air Act [42 U.S.C. 7401-7671(q)].

4. Section 4(f) of the Department of Transportation Act of 1966 [49 U.S.C. 303].

5. Endangered Species Act [16 U.S.C. 1531-1544 and 1536].

6. Fish and Wildlife Coordination Act [16 U.S.C. 661-667(d)].

7. Migratory Bird Treaty Act [16 U.S.C. 703-712].

8. Bald and Golden Eagle Protection Act [16 U.S.C. 668-668c].

9. Section 106 of the National Historic Preservation Act of 1966, as amended [16 U.S.C. 470].

10. Farmland Protection Policy Act [7 U.S.C. 4201-4209].

12. Safe Drinking Water Act [42 U.S.C. 300(f) et seq.].

13. Uniform Relocation Assistance and Real Property Acquisition Policies Act of 1970 [42 U.S.C. 4601 et seq.].

14. Noise Control Act of 1972 [42 U.S.C. 4901 et seq.].

15. Resource Conservation and Recovery Act [42 U.S.C. 6901-6992(k)].

16. Comprehensive Environmental Response, Compensation, and Liability Act [42 U.S.C. 9601-9675].

17. Americans with Disabilities Act of 1990 [42 U.S.C. 12101].

18. Executive Order 11990, Protection of Wetlands.

19. Executive Order 11988, Floodplain Management.

20. Executive Order 11593, Protection and Enhancement of Cultural Resources.

21. Executive Order 13007, Indian Sacred Sites.

22. Executive Order 13287, Preserve America.

23. Executive Order 13175, Consultation and Coordination with Indian Tribal Governments.

24. Executive Order 11514, Protection and Enhancement of Environmental Quality.

25. Executive Order 13112, Invasive Species.

(Catalog of Federal Domestic Assistance Program Number 20.205, Highway Planning and Construction. The regulations implementing Executive Order 12372 regarding intergovernmental consultation on Federal programs and activities apply to this program.)

Authority: 23 U.S.C. 139(l)(1).

David L. Snyder,
Pennsylvania Division Administrator, Federal Highway Administration.

[FR Doc. 2025-10309 Filed 6-5-25; 8:45 am]

BILLING CODE 4910-RY-P